DEPARTMENT OF HEALTH AND HUMAN SERVICES

Administration for Community Living

Administration on Disabilities, The President's Committee for People with Intellectual Disabilities

AGENCY: Administration for Community Living, HHS.

ACTION: Notice.

SUMMARY: The President's Committee for People with Intellectual Disabilities (PCPID) will host a virtual meeting for its members to identify emerging topics to examine in the Committee's Report to the President. All the PCPID meetings, in any format, are open to the public. This virtual meeting will be conducted in a presentation and discussion format.

DATES: Thursday, July 28, 2022 from 12:00 p.m. to 4:00 p.m. (EST).

AGENDA: The Committee will discuss survey responses, collectively discuss emerging issues facing people with intellectual disabilities, and the preparation of the PCPID Report to the President, including its proposed content and format, and related data collection and analysis required to complete the writing of the Report.

ADDITIONAL INFORMATION: For further information, please contact Mr. David Jones, Director, Office of Intellectual Developmental Disabilities, 330 C Street SW, Switzer Building, Room 1126, Washington, DC 20201. Telephone: 202-795-7367. Fax: 202-795-7334. Email: David.Jones@acl.hhs.gov.

SUPPLEMENTARY INFORMATION: Stakeholder input is very important to the PCPID. Comments and suggestions especially from people with intellectual and developmental disabilities, are welcomed. If there are comments or feedback you would like to share with the PCPID as it begins to prioritize its work, please share them through the following ACL.gov link: https://acl.gov/form/pcpid?j=1555178&sfmc_sub=191090082&l=6707_HTML&u=34777761&mid=515008575&jb=0.

Comments received by June 30, 2022 will be shared with the PCPID at the July 28th meeting. Comments received after June 30, 2022 will be compiled and shared with the PCPID quarterly.

Webinar/Conference Call: The virtual meeting is scheduled for Thursday, July 28, 2022 from 12:00 p.m. to 4:00 p.m. (EST) and may end early if discussions are finished. The meeting will be held through a zoom meeting platform. In order to participate, you must register in advanced of the meeting at the following link: https://www.zoomgov.com/meeting/register/vJIsdeCpqzgsEiNHISQhI6VBwprCzIlu8BU.

BACKGROUND INFORMATION ON THE COMMITTEE: The PCPID acts in an advisory capacity to the President and the Secretary of Health and Human Services on a broad range of topics relating to programs, services and support for individuals with intellectual disabilities. The PCPID Charter stipulates that the Committee shall: (1) provide such advice concerning intellectual disabilities as the President or the Secretary of Health and Human Services may request; and (2) provide advice to the President and the Secretary of Health and Human Services to promote full participation of people with intellectual disabilities in their communities, such as: (A) expanding educational opportunities; (B) promoting housing opportunities; (C) expanding opportunities for competitive integrated employment; (D) improving accessible transportation options; (E) protecting rights and preventing abuse; and (F) increasing access to assistive and universally designed technologies; and (3) provide advice to the President and the Secretary of Health and Human Services to help advance racial equity and support for people with intellectual disabilities within underserved communities.

Dated: June 22, 2022.
Jill Jacobs,
Commissioner, Administration on Disabilities.

[FR Doc. 2022-13699 Filed 6-27-22; 8:45 am]

BILLING CODE 4154-01-P